DEPARTMENT OF THE INTERIOR

Office of the Secretary

25 CFR Ch. I

30 CFR Chs. II and VII

36 CFR Ch. I

43 CFR Subtitle A, Chs. I and II

48 CFR Ch. 14

50 CFR Chs. I and IV

[167D0102DM; DS6CS00000; DLSN00000.00000; DX6CS25]

Semiannual Regulatory Agenda

AGENCY: Office of the Secretary, Interior.

ACTION: Semiannual regulatory agenda.

SUMMARY: This notice provides the semiannual agenda of rules scheduled for review or development between Fall 2020 and Fall 2021. The Regulatory Flexibility Act and Executive Order 12866 require publication of the agenda.

ADDRESSES: Unless otherwise indicated, all agency contacts are located at the Department of the Interior, 1849 C Street NW, Washington, DC 20240.

FOR FURTHER INFORMATION CONTACT: You should direct all comments and inquiries about these rules to the appropriate agency contact. You should direct general comments relating to the agenda to the Office of Executive Secretariat and Regulatory Affairs, Department of the Interior, at the address above or at 202-208-3181.

SUPPLEMENTARY INFORMATION: With this publication, the Department satisfies the requirement of Executive Order 12866 that the Department publish an agenda of rules that we have issued or expect to issue and of currently effective rules that we have scheduled for review.

Simultaneously, the Department meets the requirement of the Regulatory Flexibility Act (5 U.S.C. 601 et seq.) to publish an agenda in April and October of each year identifying rules that will have significant economic effects on a substantial number of small entities. We have specifically identified in the agenda rules that will have such effects.

This edition of the Unified Agenda of Federal Regulatory and Deregulatory Actions includes The Regulatory Plan, which appears in both the online Unified Agenda and in part II of the Federal Register that includes the Unified Agenda. The Department's Statement of Regulatory Priorities is included in the Plan.

In some cases, the Department has withdrawn rules that were placed on previous agendas for which there has been no publication activity or for which a proposed or interim rule was published. There is no legal significance to the omission of an item from this agenda. Withdrawal of a rule does not necessarily mean that the Department will not proceed with the rulemaking. Withdrawal allows the Department to assess the action further and determine whether rulemaking is appropriate. Following such an assessment, the Department may determine that certain rules listed as withdrawn under this agenda are appropriate for promulgation. If that determination is made, such rules will comply with Executive Order 13771.

Bivan R. Patnaik,
Deputy Director of Regulatory Affairs, Executive Secretariat and Regulatory Affairs.

Bureau of Safety and Environmental Enforcement—Proposed Rule Stage
Sequence No. | Title | Regulation Identifier No.
272 | Update of Regulations on Relief or Reduction in Royalty Rates | 1014-AA50

Assistant Secretary for Land and Minerals Management—Proposed Rule Stage
Sequence No. | Title | Regulation Identifier No.
273 | Revisions to the Requirements for Exploratory Drilling on the Arctic Outer Continental Shelf | 1082-AA01
274 | Risk Management, Financial Assurance and Loss Prevention | 1082-AA02

United States Fish and Wildlife Service—Proposed Rule Stage
Sequence No. | Title | Regulation Identifier No.
275 | Migratory Bird Hunting; 2021-22 Migratory Game Bird Hunting Regulations | 1018-BE34
276 | Migratory Bird Hunting; 2022-23 Migratory Game Bird Hunting Regulations | 1018-BF07
277 | Importation, Exportation and Transportation of Wildlife; Updates to the Regulations | 1018-BF16

United States Fish and Wildlife Service—Completed Actions
Sequence No. | Title | Regulation Identifier No.
278 | Migratory Bird Hunting; 2020-2021 Migratory Game Bird Hunting Regulations | 1018-BD89

DEPARTMENT OF THE INTERIOR (DOI)

Bureau of Safety and Environmental Enforcement (BSEE)

Proposed Rule Stage

272. • Update of Regulations on Relief or Reduction in Royalty Rates

E.O. 13771 Designation: Deregulatory.

Legal Authority: 43 U.S.C. 1337(a)(3)(A); 43 U.S.C. 1337(a)(3)(B)

Abstract: BSEE has reviewed its current regulations pertaining to royalty relief and is considering modifications to streamline the current provisions related to royalty relief, in order to reduce certain unnecessary regulatory burdens imposed under the existing regulations. BSEE's modifications to the existing regulations would increase transparency, efficiency, and clarity consistent with governing law. Appropriately awarded royalty relief helps to ensure America has a stable, long-term energy supply while protecting the American public (i.e., relief only provided when a lease/project is uneconomic paying full royalty). In addition, BSEE is considering modifications for a streamlined approach during presidential declared emergencies.

Timetable:

Action | Date | FR Cite
NPRM | 03/00/21

Regulatory Flexibility Analysis Required: Yes.

Agency Contact: Kirk Malstrom, Acting Chief, Regulations and Standards Branch, Department of the Interior, Bureau of Safety and Environmental Enforcement, 45600 Woodland Road, Sterling, VA 20166, Phone: 703 787-1751, Fax: 703 787-1555, Email: kirk.malstrom@bsee.gov.

RIN: 1014-AA50

DEPARTMENT OF THE INTERIOR (DOI)

Assistant Secretary for Land and Minerals Management (ASLM)

Proposed Rule Stage

273. Revisions to the Requirements for Exploratory Drilling on the Arctic Outer Continental Shelf

E.O. 13771 Designation: Deregulatory.

Legal Authority: 43 U.S.C. 1331 to 1356a; 33 U.S.C. 2701

Abstract: This proposed rule would revise specific provisions of the regulations published in the final Arctic Exploratory Drilling Rule, 81 FR 46478 (July 15, 2016), which established a regulatory framework for exploratory drilling and related operations within the Beaufort Sea and Chukchi Sea Planning Areas on the Outer Continental Shelf of Alaska. The rulemaking for this RIN replaces the Bureau of Safety and Environmental Enforcement's RIN 1014-AA40.

Timetable:

Action | Date | FR Cite
NPRM | 11/00/20

Regulatory Flexibility Analysis Required: Yes.

Agency Contact: Justin Abernathy, Deputy Director for Policy, Office of the Executive Secretariat and Regulatory Affairs, Department of the Interior, Office of the Secretary, 1849 C Street NW, Washington, DC 20240, Phone: 202 513-0357, Email: justin_abernathy@ios.doi.gov.

RIN: 1082-AA01

274. Risk Management, Financial Assurance and Loss Prevention

E.O. 13771 Designation: Deregulatory.

Legal Authority: 43 U.S.C. 1331 et seq.

Abstract: As directed by Executive Order 13795, the Bureau of Ocean Energy Management (BOEM) has reconsidered its financial assurance policies, as reflected in Notice to Lessees No. 2016-N01 (September 12, 2016). In consideration of that review, BOEM and the Bureau of Safety and Environmental Enforcement (BSEE) are now developing a joint rule that is intended to revise existing financial assurance policies for oil and gas operations on the Outer Continental Shelf in order to ensure operator compliance with financial and performance obligations while reducing unnecessary regulatory burdens.

Timetable:

Action | Date | FR Cite
NPRM | 10/16/20 | 85 FR 65904
NPRM Comment Period End | 12/15/20
Final Action | 02/00/21

Regulatory Flexibility Analysis Required: Yes.

Agency Contact: Justin Abernathy, Deputy Director for Policy, Office of the Executive Secretariat and Regulatory Affairs, Department of the Interior, Office of the Secretary, 1849 C Street NW, Washington, DC 20240, Phone: 202 513-0357, Email: justin_abernathy@ios.doi.gov.

RIN: 1082-AA02

DEPARTMENT OF THE INTERIOR (DOI)

United States Fish and Wildlife Service (FWS)

Proposed Rule Stage

275. Migratory Bird Hunting; 2021-22 Migratory Game Bird Hunting Regulations

E.O. 13771 Designation: Fully or Partially Exempt.

Legal Authority: 16 U.S.C. 703 to 712; 16 U.S.C. 742a-j

Abstract: The U.S. Fish and Wildlife Service proposes to establish annual hunting regulations for certain migratory game birds for the 2021-22 hunting season. We annually prescribe outside limits (frameworks) within which States may select hunting seasons. This proposed rule provides the regulatory schedule, announces the Service Migratory Bird Regulations Committee and Flyway Council meetings, describes the proposed regulatory alternatives for the 2021-22 duck hunting seasons, and requests proposals from Indian Tribes that wish to establish special migratory game bird hunting regulations on Federal Indian reservations and ceded lands.

Timetable:

Action | Date | FR Cite
NPRM | 10/09/20 | 85 FR 64097
NPRM Comment Period End | 11/09/20
NPRM—Supplemental | 11/00/20
NPRM—Proposed Frameworks | 01/00/21
NPRM—Proposed Tribal Regulations | 01/00/21
Final Action—Final Frameworks | 04/00/21
Final Action—Final Tribal Regulations | 06/00/21
Final Action—Season Selections | 06/00/21

Regulatory Flexibility Analysis Required: Yes.

Agency Contact: Jerome Ford, Assistant Director--Migratory Bird Program, Department of the Interior, United States Fish and Wildlife Service, 5275 Leesburg Pike, MS-MB, Falls Church, VA 22041-3803, Phone: 703 358-1050, Email: jerome_ford@fws.gov.

RIN: 1018-BE34

276. Migratory Bird Hunting; 2022-23 Migratory Game Bird Hunting Regulations

E.O. 13771 Designation: Fully or Partially Exempt.

Legal Authority: 16 U.S.C. 703 to 712; 16 U.S.C. 742a-j

Abstract: The U.S. Fish and Wildlife Service proposes to establish annual hunting regulations for certain migratory game birds for the 2022-23 hunting season. We annually prescribe outside limits (frameworks) within which States may select hunting seasons. This proposed rule provides the regulatory schedule, announces the Service Migratory Bird Regulations Committee and Flyway Council meetings, describes the proposed regulatory alternatives for the 2022-23 duck hunting seasons, and requests proposals from Indian Tribes that wish to establish special migratory game bird hunting regulations on Federal Indian reservations and ceded lands.

Timetable:

Action | Date | FR Cite
NPRM | 06/00/21
NPRM—Supplemental | 09/00/21
NPRM—Proposed Frameworks | 12/00/21
NPRM—Proposed Tribal Regulations | 01/00/22
Final Action—Final Frameworks | 02/00/22
Final Action—Final Tribal Regulations | 04/00/22
Final Action—Season Selections | 06/00/22

Regulatory Flexibility Analysis Required: Yes.

Agency Contact: Jerome Ford, Assistant Director--Migratory Bird Program, Department of the Interior, United States Fish and Wildlife Service, 5275 Leesburg Pike, MS-MB, Falls Church, VA 22041-3803, Phone: 703 358-1050, Email: jerome_ford@fws.gov.

RIN: 1018-BF07

277. Importation, Exportation and Transportation of Wildlife; Updates to the Regulations

E.O. 13771 Designation: Other.

Legal Authority: 16 U.S.C. 668; 16 U.S.C. 704; 16 U.S.C. 712; 16 U.S.C. 1382; 16 U.S.C. 1538(d)-(f),; 16 U.S.C. 1540(f); 16 U.S.C. 33 8(d)-(f); 16 U.S.C. 3371 to 3378; 16 U.S.C. 4223 to 4244; 16 U.S.C. 4901 to 4916; 18 U.S.C. 42; 31 U.S.C. 42; 31 U.S.C. 9701

Abstract: We propose to rewrite our regulations governing the importation and exportation of wildlife to make these regulations easier to understand. In addition, we propose to revise the inspection fees associated with the importation and exportation of wildlife and to update the list of species that qualify as domesticated species, for which U.S. Fish and Wildlife inspection and clearance is not required. The current inspection fees have been in effect since 2012. The establishment of these fees is consistent with the Independent Offices Appropriations Act of 1952 and OMB Circular No. A-25, which provide that services provided by Federal agencies are to be self-sustaining to the extent possible and that fees assessed should be sufficient to recover the full cost to the Federal Government of providing the service and are based on market prices.

Timetable:

Action | Date | FR Cite
NPRM | 07/00/21

Regulatory Flexibility Analysis Required: Yes.

Agency Contact: Edward Grace, Assistant Director, Office of Law Enforcement, Department of the Interior, United States Fish and Wildlife Service, 5275 Leesburg Pike, MS: LEO, Falls Church, VA 22041-3803, Phone: 703 358-1949, Fax: 703 358-1947, Email: edward_grace@fws.gov.

RIN: 1018-BF16

DEPARTMENT OF THE INTERIOR (DOI)

United States Fish and Wildlife Service (FWS)

Completed Actions

278. Migratory Bird Hunting; 2020-2021 Migratory Game Bird Hunting Regulations

E.O. 13771 Designation: Fully or Partially Exempt.

Legal Authority: 16 U.S.C. 703 to 712; 16 U.S.C. 742a-j

Abstract: This rule establishes hunting regulations for certain migratory game birds for the 2020-2021 hunting season. Migratory game bird hunting seasons provide opportunities for recreation and sustenance; aid Federal, State, and Tribal governments in the management of migratory game birds; and permit harvests at levels compatible with migratory game bird population status and habitat conditions. We annually prescribe outside limits (frameworks) within which States may select hunting seasons. We also work with Indian tribes that wish to establish special migratory game bird hunting regulations on Federal Indian reservations and ceded lands. For this rule, we used a regulatory impact analysis developed in 2013 and incorporated the most recent available data to quantify the costs and benefits of different regulatory alternatives.

Timetable:

Action | Date | FR Cite
NPRM | 10/15/19 | 84 FR 55120
NPRM Comment Period End | 11/15/19
NPRM—Proposed Frameworks | 03/19/20 | 85 FR 15870
NPRM Comment Period End | 04/20/20
NPRM—Proposed Tribal Regulations | 04/02/20 | 85 FR 18532
NPRM Comment Period End | 05/04/20
Final Frameworks | 08/21/20 | 85 FR 51854
Final Tribal Regulations | 08/28/20 | 85 FR 53247
Season Selections | 08/28/20 | 85 FR 53260
Final Action Effective | 08/21/20
Final Action Effective | 08/28/20

Regulatory Flexibility Analysis Required: Yes.

Agency Contact: Dr. Eric L. Kershner, Chief, Branch of Conservation, Permits, and Regulations, Department of the Interior, United States Fish and Wildlife Service, 5275 Leesburg Pike, MS: MB, Falls Church, VA 22041, Phone: 703 358-2376, Fax: 703 358-2217, Email: eric_kershner@fws.gov.

RIN: 1018-BD89

[FR Doc. 2021-04500 Filed 3-30-21; 8:45 am]

BILLING CODE 4334-63-P